DEPARTMENT OF THE INTERIOR

National Park Service

Grand Portage National Monument, MN; General Management Plan

AGENCY: National Park Service, Interior.

ACTION: Notice of availability of the draft general management plan/draft environmental impact statement for Grand Portage National Monument, Minnesota.

SUMMARY: Pursuant to section 102(2) of the National Environmental Policy Act of 1969, the National Park Service (NPS) announces the availability of the draft general management plan/draft environmental impact statement (DGMP/DEIS) for Grand Portage National Monument (hereafter “the Monument”). This notice also announces public open houses for the purpose of explaining the DGMP/DEIS and receiving public comments on the DGMP/DEIS.

DATES: There will be a 60-day public review period for comments on this DGMP/DEIS. Comments on the DGMP/DEIS must be received 60-days after the Environmental Protection Agency publishes its notice of availability in the Federal Register or following an announcement in local papers, which-ever is published later. Public open houses for information about, or to make comment on the DGMP/DEIS will be held in Grand Marais and other locations within the State of Minnesota. Information about time and place will be available by contacting the park at the address below. Open house schedules will be published in state and local papers.

ADDRESSES: Copies of the DCMP/DEIS are available by request by writing to Grand Portage National Monument, P.O. Box 668, Grand Marais, MN 55604-0668, by phone 218-387-2788. The document can be picked-up in person at the Monument's Headquarters, 315 S. Broadway, Grand Marais, MN.

FOR FURTHER INFORMATION CONTACT: Superintendent, Grand Portage National Monument, P.O. Box 668, Grand Marais, MN 55604-0668, or at telephone number 218-387-2788.

SUPPLEMENTARY INFORMATION: The purpose of the general management plan is to set forth the basic management philosophy for the Monument and to provide the strategies for addressing issues and achieving identified management objectives. The DDMP/DEIS describes and analyzes the environmental impacts of a proposed action and three action alternatives for the future management direction of the Monument. A no action alternative is also evaluated. The preferred alternative, Alternative E, is an alternative that was developed to combine actions from the other alternatives to achieve desired results. It would include a year-round heritage center and an Ojibwe Culture Center. Alternative B would attempt to transport visitors back to the 1790's, with maritime transportation along the historic waterfront and additional interpretation of Lake Superior and connecting waterways. Visitors could learn about the maritime aspects of the fur trade, as well as about the Ojibwe culture and heritage. Alternative C would offer a multifaceted visitor experience: several newly reconstructed structure and interpretive exhibits, a combined heritage center/headquarters open year-round, and an Ojibwe Heritage Cultural Center. Interpretation would encompass prehistoric, historic, and contemporary activities. Alternative D would include a large multifunctional heritage center, which would offer a glimpse into the history of the Grand Portage and its inhabitants. Alternative A is the no-action alternative, which provides a baseline for comparing other action alternatives.

Persons wishing to comment may do so by one of several methods. They may attend the open house noted above. They may mail comments to Superintendent, Grand Portage National Monument, P.O. Box 668, Grand Marais, MN 55604-0668. They also may hand-deliver comments to the Grand Portage National Monument headquarters located at 315 S. Broadway, Grand Marais, MN.

If individuals submitting comments request that their name and/or address be withheld from public disclosure, it will be honored to the extent allowable by law. Such requests must be stated prominently in the beginning of the comments. As always, the NPS will make available to public inspection all submissions from organizations or businesses and from persons identifying themselves as representatives or officials of organizations and businesses. Anonymous comments will not be considered.

The responsible official is Mr. William Schenk, Midwest Regional Director, National Park Service.

Dated: January 22, 2002.
David N. Given,
Acting Regional Director, Midwest Region.

[FR Doc. 02-7256 Filed 3-25-02; 8:45 am]

BILLING CODE 4310-70-M